ENVIRONMENTAL PROTECTION AGENCY

40 CFR Part 70

[CO-001b; FRL-6851-2]

Clean Air Act Proposed Full Approval of Operating Permit Program; Approval of Expansion of State Program Under Section 112(l); State of Colorado

AGENCY: Environmental Protection Agency (EPA).

ACTION: Proposed rule.

SUMMARY: The EPA is proposing to approve the operating permit program submitted by the State of Colorado. Colorado's program was submitted for the purpose of meeting the Federal Clean Air Act directive that States develop, and submit to EPA, programs for issuing operating permits to all major stationary sources and to certain other sources within the State's jurisdiction.

In the “Rules and Regulations” section of this Federal Register, the EPA is promulgating full approval of the Colorado program as a direct final rule without prior proposal because the state is currently running the program and the Agency views this as a noncontroversial action and anticipates no adverse comments. A detailed rationale for the approval is set forth in the preamble to the direct final rule.

In addition, EPA is also approving the expansion of Colorado's program for receiving delegation of section 112 standards to include non-part 70 sources. If no adverse comments are received in response to this rule, no further activity is contemplated in relation to this rule. If EPA receives adverse comments, the direct final rule will be withdrawn and all public comments received will be addressed in a subsequent final rule based on this proposed rule. EPA will not institute a second comment period on this action. Any parties interested in commenting on this action must do so at this time.

DATES: Comments must be received in writing on or before September 15, 2000.

ADDRESSES: Written comments may be mailed to: Richard R. Long, Director, Air and Radiation Program, Mail Code 8P-AR, Environmental Protection Agency (EPA), Region VIII, 999 18th Street, Suite 500, Denver, Colorado 80202.

Copies of the documents relevant to this action are available for public inspection during normal business hours at the above address. Copies of the State documents relevant to this action are available for public inspection at the Colorado Department of Health and Environment, Air Quality Control Division, 4300 Cherry Creek Drive S., Denver, CO 80222-1530.

FOR FURTHER INFORMATION CONTACT: Patricia Reisbeck, EPA, Region VIII, (303) 312-6435.

SUPPLEMENTARY INFORMATION: See the information provided in the direct final notice of the same title which is located in the Rules section of this Federal Register.

Authority: 42 U.S.C. 7401, et seq.

Dated: August 4, 2000.
Jack W. McGraw,
Regional Administrator, Region 8.

[FR Doc. 00-20724 Filed 8-15-00; 8:45 am]

BILLING CODE 6560-50-U